DEPARTMENT OF DEFENSE

Department of the Air Force

Proposed Navy Air-to-Ground Training at Avon Park Air Force Range, FL

AGENCY: Department of the Air Force, Headquarters Air Combat Command.

ACTION: Record of Decision.

SUMMARY: On August 21, 2006 the United States Air Force signed the Record of Decision (ROD) for the Proposed Navy Air-to-Ground Training at Avon Park Air Force Range, Florida, and has selected Alternative 6 (Utilize Alpha Plus Impact Area for High Explosive Delivery) for implementation. This ROD states the Air Force decision to allow the Navy to conduct all components of air-to-ground ordnance delivery and training at integrated and sustainment levels of Fleet Forces Command's Fleet Readiness Training Program at APAFR, Florida. The proposed action includes an increase in current common elements training and adds air-to-ground readiness training, including delivery of inert and high explosive (HE) ordnance from the Navy's tactical jets. Alternative 6 was selected because it provides the best balance between readiness training and environmental concerns. The Air Force participated as a cooperating agency in preparation of the Navy Final Environmental Impact Statement (FEIS) and ROD, which the AF ROD incorporated by reference. The Navy FEIS and ROD provide detailed information on the Navy proposal and the selection of alternatives that were considered by the Air Force in reaching its decision. The EIS and ROD also describe in detail impacts of the proposed action to the human and the natural environment in 13 resource areas and measures that will be taken to mitigate those impacts. The Air Force decision was based on matters discussed in the ROD, the FEIS, inputs from the public, inputs from regulatory agencies, and other relevant factors. The FEIS was made available on November 18, 2005 in the Federal Register: (Vol. 70, Number 222, page 69967) with a waiting period ending December 18, 2005. The ROD documents only the decision of the Air Force, as a cooperating agency, with regard to the proposed Navy actions analyzed in the FEIS.

FOR FURTHER INFORMATION CONTACT: Headquarters Air Combat Command, Integrated Planning Office, 129 Andrews St, Suite 103 Langley AFB VA 23665 or call (757) 764-9197.

Bao-Anh Trinh,
Air Force Federal Register Liaison Officer.

[FR Doc. E6-15183 Filed 9-12-06; 8:45 am]

BILLING CODE 5001-06-P